DEPARTMENT OF AGRICULTURE

48 CFR Part 422

RIN 0599-AA19

Office of Procurement and Property Management; Agriculture Acquisition Regulation, Labor Law Violations; Withdrawal

AGENCY: Office of Procurement and Property Management, Departmental Management, Department of Agriculture.

ACTION: Direct Final rule; withdrawal.

SUMMARY: Due to the receipt of an adverse comment, the Office of Procurement and Property Management (OPPM) of the Department of Agriculture (USDA) is withdrawing the December 1, 2011, (76 FR 74722) direct final rule adding a new clause to the Agriculture Acquisition Regulation at subpart 422.70 entitled “Labor Law Violations” that would have a contractor certify upon accepting a contract that it is in compliance with all applicable labor laws and that, to the best of its knowledge, its subcontractors of any tier, and suppliers, are also in compliance with all applicable labor laws. The Department stated that in the event of an adverse comment being received by January 30, 2012, the direct final rule would be withdrawn in part or in whole. On January 27, 2012, USDA received a comment. USDA interprets this comment as adverse and, therefore, USDA is withdrawing the direct final rule.

DATES: As of February 6, 2012, the direct final rule published on December 1, 2011, at 76 FR 74722, is withdrawn.

FOR FURTHER INFORMATION CONTACT: Donna Calacone, Office of Procurement and Property Management, at (202) 205-4036 or by mail at OPPM, Mail Stop 9306, U.S. Department of Agriculture, 300 Seventh Street SW., Washington, DC 20024-9306. Please cite “48 CFR 422 Direct Final Rule” in all correspondence.

SUPPLEMENTARY INFORMATION: USDA is withdrawing its direct final rule published on December 1, 2011 (76 FR 74722), entitled “Agriculture Acquisition Regulation, Labor Law Violations,” as USDA received an adverse comment. This document officially withdraws the direct final rule.

List of Subjects in 48 CFR Part 422

Classified information, Computer technology, Government procurement, Reporting and recordkeeping requirements.

Signed in Washington, DC, on February 1, 2012.
Jodey Barnes-Edwards,
Acting Director, Office of Procurement and Property Management.

[FR Doc. 2012-2638 Filed 2-1-12; 4:15 pm]

BILLING CODE 3410-98-P